DEPARTMENT OF THE INTERIOR

Fish and Wildlife Service

50 CFR Part 17

RIN 1018-AF92; RIN 1018-AF95

Endangered and Threatened Wildlife and Plants: Notice of Public Hearing on Critical Habitat for the Spectacled Eider and Steller's Eider

AGENCY: Fish and Wildlife Service, Interior.

ACTION: Proposed rule; notice of public hearing.

SUMMARY: The Fish and Wildlife Service (Service) provides notice that a public hearing will be held on the proposed rules designating critical habitat for spectacled eider (Somateria fischeri) and Steller's eider (Polysticta stelleri). The spectacled eider and Steller's eider are found in marine waters and coastal wetlands in Alaska. All interested parties are invited to submit comments on these proposals.

DATES: The public hearing will begin at 7 p.m. Monday, August 28, 2000, in Barrow, Alaska.

ADDRESSES: The public hearing will be held at the Inupiat Heritage Center. Written data or comments on the spectacled eider should be submitted to the Field Supervisor, Ecological Services Field Office, Anchorage, U.S. Fish and Wildlife Service, 605 W. 4th Ave. Rm G-62, Anchorage, AK 99501; Fax: 907/271-2786. Written data or comments on the Steller's eider should be submitted to the Field Supervisor, Northern Alaska Ecological Services, 101 12th Ave., Rm 110, Fairbanks, AK, 99701.

FOR FURTHER INFORMATION CONTACT: For spectacled eiders contact Ann G. Rappoport, Field Supervisor, Ecological Services Field Office, Anchorage, U.S. Fish and Wildlife Service, 605 W. 4th Ave. Rm G-62, Anchorage, AK 99501; phone: 907/271-2787 or toll-free 800/272-4174; Fax: 907/271-2786. For Steller's eiders contact Ted Swem, Endangered Species Branch, at Northern Alaska Ecological Services, 101 12th Ave., Rm 110, Fairbanks, AK, 99701; phone: 907/456-0203; fax: 907/456-0208.

SUPPLEMENTARY INFORMATION:

Background

The spectacled eider is a large seaduck found in marine waters and coastal areas from the Nushagak Peninsula of southwestern Alaska north to Barrow and east nearly to the Canadian Border. The species may be threatened by habitat degradation, lead poisoning, increased predation rates, and hunting and other human disturbance. The Steller's eider is a seaduck found in coastal and marine waters from the eastern Aleutian Islands around the western and northern coasts of Alaska to the Canada border. The Alaska-breeding population of this species is thought to have decreased significantly, but the causes of the suspected decline are unknown.

On February 8, 2000, the Service published a proposed rule to designate critical habitat for the spectacled eider under the Endangered Species Act of 1973, as amended. On March 13, 2000, the Service published a proposed rule to designate critical habitat for the Alaska-breeding population of the Steller's eider under the Endangered Species Act of 1973, as amended. Section 4(b)(5)(E) of the Act requires that a public hearing be held if requested within 45 days of the proposal's publication in the Federal Register. Public hearing requests were received within the allotted time period from George Ahmaogak, Sr., Mayor, North Slope Borough, P.O. Box 69, Barrow, Alaska, and Mr. Jacob Adams, President, Arctic Slope Regional Corporation, P.O. Box 129, Barrow, Alaska.

The Service has scheduled this hearing for August 28, 2000, 7:00 p.m., in Barrow, Alaska. Anyone wishing to make an oral statement for the record is encouraged to provide a written copy of their statement to be presented to the Service at the start of the hearing. Legal notices announcing the dates, time, and location of the hearing are being published in newspapers concurrently with the Federal Register notice. The Service has also scheduled the following public meetings in Alaska: Nuiqsut (August 21, 2000), Wainwright (August 23, 2000), Point Lay (August 24, 2000), and Atqasuk (August 25, 2000). Meetings will begin at 7:00 p.m. Hearing and meeting dates are subject to change depending on weather, flight schedules, and other local conditions.

Written comments may be submitted until August 31, 2000, to the appropriate Service office as specified in the addresses section. Our practice is to make comments, including names and home addresses of respondents, available for public review during regular business hours. Individual respondents may request that we withhold their home address from the rulemaking record, which we will honor to the extent allowable by law. In certain circumstances, we would withhold from the rulemaking record a respondent's identity, as allowable by law. If you wish for us to withhold your name and/or address, you must state this request prominently at the beginning of your comment. However, we will not consider anonymous comments. We will make all submissions from organizations or businesses, and from individuals identifying themselves as representatives or officials of organizations or businesses, available for public inspection in their entirety.

The deadline for requesting public hearings on the proposed rule regarding critical habitat for the spectacled eider was March 24, 2000. The deadline for requesting public hearings for the proposed rule regarding critical habitat for Steller's eider was April 27, 2000. We have not extended these deadlines. In order to be considered valid, requests for public hearings must have been submitted in writing and received at the appropriate office by the relevant deadline.

Author

The primary author of this notice is Susan Detwiler, U.S. Fish and Wildlife Service, Division of Endangered Species, 1011 E. Tudor Rd., Anchorage, AK 99503.

Authority: The authority of this action is the Endangered Species Act of 1973 (16 U.S.C. 1531 et seq.).

Dated: July 21, 2000.
David B. Allen,
Regional Director, Region 7, Fish and Wildlife Service.

[FR Doc. 00-19183 Filed 7-28-00; 8:45 am]

BILLING CODE 4310-55-P